DEPARTMENT OF HOUSING AND URBAN DEVELOPMENT

[Docket No. FR-4644-N-26]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized building and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses; DOT: Mr. Rugene Spruill, Space Management, SVC-140, Transportation Administrative Service Center, Department of Transportation, 400 7th Street, SW, Room 2310, Washington, DC 20590; (202) 366-4246; GSA: Mr. Brian K. Polly, Assistant Commissioner, General Services Administration, Office of Property Disposal, 18th and F Streets, NW, Washington, DC 20405; (202) 501-0052; INTERIOR: Ms. Linda Tribby, Acquisition & Property Management, Department of the Interior, 1849 C Street, NW, Washington, DC 20240; (202) 606-3139; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: June 21, 2001.
John D. Garrity,
Director, Office of Special Needs Assistance Programs.

Title V, Federal Surplus Property Program Federal Register Report For June 29, 2001

Suitable/Available Properties

Buildings (by State)

Michigan

Natl Weather Svc Ofc

214 West 14th Ave.

Sault Ste. Marie Co: Chippewa MI

Landholding Agency: GSA

Status: Excess

Property Number: 54200120010

Comment: 2230 sq. ft., presence of asbestos, most recent use—office

GSA Number: 1-C-MI-802

Minnesota

GAP Filler Radar Site

St. Paul Co: Rice MN 55101-

Landholding Agency: GSA

Property Number: 54199910009

Comment: 1266 sq. ft., concrete block, presence of asbestos/lead paint, most recent use—storage, zoning requirements, preparations for a Phase I study underway, possible underground storage tank

GSA Number: 1-GR(1)-MN-475

New Mexico

Tract #101-23

Blair Property

Aztec Ruins Natl Monument

Aztec Co: San Juan NM 87410-

Location: Mobil Home, 604 Ruins Rd.

Landholding Agency: Interior

Property Number: 61200120024

Status: Excess

Comment: 14 x 70 sq. ft., most recent use—residential, off-site use only

Tract #101-23

Blair Property

Aztec Ruins Natl Monument

Aztec Co: San Juan NM 87410-

Location: Manu. house, 604 Ruins Rd.

Landholding Agency: Interior

Property Number: 61200120025

Status: Excess

Comment: 1344 sq. ft., most recent use—residential, off-site use only

Tract #101-11

Randack Property

Aztec Ruins Natl Monument

Aztec Co: San Juan NM 87410-9715

Location: Mobil home, #84 County Road

Landholding Agency: Interior

Property Number: 61200120026

Status: Excess

Comment: 1064 sq. ft., most recent use—residence, off-site use only

South Carolina

Greenwood Fed. Bldg.

120 Main Street

Greenwood Co: SC 29646-

Landholding Agency: GSA

Property Number: 54200120012

Status: Excess

Comment: 35,782 sq. ft., presence of asbestos, possible lead paint, most recent use—office, historic preservation convenents

GSA Number: 4-G-SC-601

SSA/Fed. Bldg.

404 East Main St.

Rock Hill Co: York SC 29730-

Landholding Agency: GSA

Property Number: 54200120013

Status: Surplus

Comment: 4585 sq. ft., presence of asbestos, most recent use—office

GSA Number: 4-G-SC-600

Land (by State)

New York

West Leyden NEXRAD Site

corner of Borwick Rd.

West Leyden Co: NY

Landholding Agency: GSA

Property Number: 54200120011

Status: Excess

Comment: 1.012 acres, most recent use—Next Generation Weather Radar Joint System

GSA Number: 1-D-NY-886

Unsuitable Properties

Buildings (by State)

California

Bldg. 208

Whiskey Creek

Whiskeytown Co: Shasta CA 96095-

Landholding Agency: Interior

Property Number: 61200120027

Status: Unutilized

Reason: Extensive deterioration

New York

Turkey Point Light

Saugerties Co: Ulster NY

Landholding Agency: GSA

Property Number: 54200120014

Status: Excess

Reason: Floodway

GSA Number: 1-U-NY-880

North Carolina

Quarters 323

Great Smoky Mtns Natl Pk

Balsam Mtn Co: Swain NC 27819-

Landholding Agency: Interior

Property Number: 61200120022

Status: Excess

Reason: Extensive deterioration

Texas

Tract No. 01-105

Hobbs House

LBJ Natl Historic Pk

Johnson City CO: Blanco TX

Landholding Agency: Interior

Property Number: 61200120023

Status: Unutilized

Reason: Extensive deterioration

Bldg. 1346

Naval Air Station

Ft. Worth Co: Tarrant TX 76127-

Landholding Agency: Navy

Property Number: 77200120156

Status: Excess

Reasons: Secured Area; Extensive deterioration

Virginia

Bldg. 156

USCG Training Center

Yorktown

Yorktown Co: York, VA 23690-5000

Landholding Agency: DOT

Property Number: 87200120015

Status: Underutilized

Reasons: Within 2000 ft. of flammable or explosive material; Secured Area

Washington

Bldg. 2511

NAS Whidbey Island

Oak Harbor Co: Island WA 98278-3500

Landholding Agency: Navy

Property Number: 77200120157

Status: Excess

Reason: Secured Area

[FR Doc. 01-16029 Filed 6-28-01; 8:45 am]

BILLING CODE 4210-29-M